DEPARTMENT OF THE INTERIOR

National Park Service

National Register of Historic Places; Notification of Pending Nominations and Related Actions

Nominations for the following properties being considered for listing or related actions in the National Register were received by the National Park Service before September 4, 2010. Pursuant to section 60.13 of 36 CFR Part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th floor, Washington DC 20005; or by fax, 202-371-6447. Written or faxed comments should be submitted by October 12, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ARIZONA

Maricopa County

Phoenix Homesteads Historic District Boundary Increase, Roughly bounded by Pinchot and Flower Sts, 26th to 28th Sts, Phoenix, 10000844

ARKANSAS

Jefferson County

Williams Building, 418-420 N University, Pine Bluff, 10000833

Polk County

Shady Lake CCC Bridge #1, (Facilities Constructed by the CCC in Arkansas MPS) Forest Service Road 38 over the South Fork of the Saline River, Athens, 10000841

Shady Lake CCC Bridge #2, (Facilities Constructed by the CCC in Arkansas MPS) Shady Lake Campground loop road over the East Fork of the Saline River, Athens, 10000842

CALIFORNIA

Alameda County

Niles Canyon Transcontinental Railroad Historic District, Railway corridor from Niles to Pleasanton, Fremont, Sunol, and Pleasanton, 10000843

CONNECTICUT

Fairfield County

Little Bethel African Methodist Episcopal Church, 44 Lake Ave, Greenwich, 10000831

New Haven County

Elam Ives House, 95 Ives St, Hamden, 10000832

FLORIDA

Sarasota County

John Nolen Plan of Venice Historic District, Laguna Dr on N, Home Park Rd on E, the Corso on S, The Esplanade on W, Venice, 10000840

GEORGIA

Thomas County

Glenwood Historic District, Roughly bounded by Clay St, Glenwood Dr, East Jackson St, and Euclid Dr, Thomasville, 10000826

ILLINOIS

Jo Daviess County

Miller, Henry W., House, 11672 W Norris Ln, Galena, 10000836

MARYLAND

Frederick County

Smeltzer, Henry, Farmstead, 3231 Bidle Rd, Middletown, 10000830

Washington County

Funk, Jacob M., Farm, 21116 Black Rock Road, Hagerstown, 10000829

MISSOURI

Jackson County

Southeast Green Street Historic Cottage District, (Lee's Summit, Missouri MPS) 311-330, and 400 and 401 SE Green St, Lee's Summit, 10000837

Southeast Third Street Residential Historic District, (Lee's Summit, Missouri MPS) Roughly comprised of the 400 block of SE Third St btw SE Grand and SE Howard, Lee's Summit, 10000838

NEW JERSEY

Camden County

Westmont Theatre, 49 Haddon Ave, Haddon Township, 10000834

Gloucester County

Downer Methodist Episcopal Church, 2226 Fries Mill Rd, Monroe Township, 10000835

OHIO

Franklin County

North Columbus Commercial Historic District, Roughly Centered on N High St between Hudson and Dodridge, Columbus, 10000828

Montgomery County

Squirrel—Forrest Historic District, North of Homewood Ave and along the west side of Forest Ave, Dayton, 10000827

WISCONSIN

La Crosse County

23rd and 24th Streets Historic District, Generally bounded b Campbell Rd, Losey Blvd N, Main St, Vine St, and 23rd St N, La Crosse, 10000839

[FR Doc. 2010-24042 Filed 9-24-10; 8:45 am]

BILLING CODE 4312-51-P